DEPARTMENT OF HEALTH AND HUMAN SERVICES

Administration for Children and Families

Proposed Information Collection Activity; Comment Request

Title: Evaluation of Domestic Human Trafficking Demonstration Projects.

OMB No.: New Collection.

Description: The Administration for Children and Families (ACF), U.S. Department of Health and Human Services (HHS) is proposing a data collection as part of the “Evaluation of Domestic Human Trafficking Demonstration Projects” study. This notice addresses the cross-site process evaluation to be conducted with the FY 2015 domestic human trafficking demonstration sites funded by the Family and Youth Services Bureau (FYSB).

The objective of the process evaluation is to describe program operations and implementation experience, such as start-up efforts, service provision to a wide array of trafficking victims, collaboration development, training, and sustainability actions. Information from the evaluation will assist federal, state, and community policymakers and funders in laying the groundwork for the refinement of program models to serve domestic victims of human trafficking, as well as evaluation strategies for future programs targeting trafficking victims.

The evaluation of domestic human trafficking demonstration projects will document and describe each site's community and organizational capacity; partnership composition and functioning; comprehensive, victim-centered services; and survivor characteristics, experiences, and outcomes. Primary data for the evaluation will be collected via qualitative interviews, including key informant interviews, case narrative interviews and client interviews. Data will be collected in two waves, during 2016 and 2017. Only the case narrative interviews will include follow up interviews. Interviews from multiple perspectives will enhance the government's understanding of strategies by which grantees can identify, engage and serve diverse populations of victims of sever forms of human trafficking.

Respondents: Case managers at the three FY 2015 FYSB funded demonstration projects; staff (e.g., program managers and directors) from partner organizations that are working with the three FY 2015 FYSB-funded demonstration projects; and clients who have received services from the three FY 2015 FYSB-funded demonstration projects.

Annual Burden Estimates
Instrument | Total number of respondents | Annual number of respondents | Number of responses per respondent | Average burden hours per response | Annual burden hours
Partner Interviews | 30 | 15 | 1 | 1.25 | 19
Case Manger Interview | 30 | 15 | 1 | 1.25 | 19
Case Narrative Interview | 30 | 15 | 1 | 1 | 15
Client Interview | 30 | 15 | 1 | 1 | 15
Project Director Interview | 6 | 3 | 1 | 2 | 6

Estimated Total Annual Burden Hours: 74.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Planning, Research and Evaluation, 330 C Street SW., Washington, DC 20201, Attn: OPRE Reports Clearance Officer. Email address: OPREinfocollection@acf.hhs.gov. All requests should be identified by the title of the information collection.

The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Robert Sargis,
ACF Certifying Officer.

[FR Doc. 2015-30742 Filed 12-4-15; 8:45 am]

BILLING CODE 4184-01-P